DEPARTMENT OF ENERGY

10 CFR Part 429

[Docket No. EERE-2013-BT-NOC-0039]

Appliance Standards and Rulemaking Federal Advisory Committee (ASRAC)

AGENCY: Office of Energy Efficiency and Renewable Energy, Department of Energy.

ACTION: Notice of open meeting and further solicitation of members for the Commercial and Industrial Pumps Working Group.

SUMMARY: This notice announces an open meeting of the Commercial and Industrial Pumps Working Group (Pumps Working Group). The purpose of the Pumps Working Group is to discuss and, if possible, reach consensus on a proposed rule for the energy efficiency of commercial and industrial pumps, as authorized by the Energy Policy and Conservation Act of 1975, as amended.

DATES: A two-day, open meeting will be held on:

Wednesday, December 18, 2013; 10 a.m.-6 p.m. (EST) and

Thursday, December 19, 2013; 8 a.m.-3 p.m. (EST).

ADDRESSES: U.S. Department of Energy, Forrestal Building, 1000 Independence Avenue SW., Washington, DC 20585. Wednesday, December 18 will be in Room GH-019 and Thursday, December 19 will be in 8E-089. Individuals will also have the opportunity to participate by webinar. To register for the webinar and receive call-in information, please register for Wednesday at https://www1.gotomeeting.com/register/835923289 and for Thursday at https://www1.gotomeeting.com/register/379301784.

FOR FURTHER INFORMATION CONTACT: John Cymbalsky, ASRAC Designated Federal Officer, Supervisory Operations Research Analyst, U.S. Department of Energy (DOE), Office of Energy Efficiency and Renewable Energy, 950 L'Enfant Plaza SW., Washington, DC 20024. Email: asrac@ee.doe.gov.

SUPPLEMENTARY INFORMATION:

I. Established Membership

II. Purpose of Meeting

III. Public Participation

I. Established Membership

The members of the Pumps Working Group were chosen from nominations submitted in response to the Department of Energy's call for nominations published in the Federal Register on Tuesday, July 23, 2013 (78 FR 44036). The selections are designed to ensure a broad and balanced array of stakeholder interests and expertise on the negotiating working group for the purpose of developing a rule that is legally and economically justified, technically sound, fair to all parties, and in the public interest. All meetings are open to all stakeholders and the public, and participation by all is welcome within boundaries as required by the orderly conduct of business. The members of the Certification Group are as follows:

DOE and ASRAC Representatives

• Lucas Adin (U.S. Department of Energy)

• Tom Eckman (Northwest Power and Conservation Council)

Other Selected Members

• Robert Barbour (TACO, Inc.)

• Charles Cappellino (ITT Industrial Process)

• Greg Case (Pump Design, Development and Diagnostics)

• Gary Fernstrom (California IOUs)

• Mark Handzel (Xylem Corporation)

• Albert Huber (Patterson Pump Company)

• Joanna Mauer (Appliance Standards Awareness Project)

• Charles Powers (Flowserve Corp., Industrial Pumps)

• Howard Richardson (Regal Beloit)

• Steve Rosenstock (Edison Electric Institute)

• Louis Starr (Northwest Energy Efficiency Alliance)

• Greg Towsley (Grundfos USA)

• Meg Waltner (Natural Resources Defense Council)

• Gary Witt (Pentair Water Systems)

II. Purpose of Meeting

The Pumps Working Group is expected to provide advice and recommendations to the U.S. Department of Energy, through the Appliance Standards and Rulemaking Federal Advisory Committee, on a proposed rule for the energy efficiency of commercial and industrial pumps, as authorized by Part A-1, “Certain Industrial Equipment,” of Title III of the Energy Policy and Conservation Act (EPCA), as amended.

Tentative Agenda: (Subject to Change)

• Overview of Working Group's Task

• Discussion and formation of a work plan for the Commercial and Industrial Pumps Working Group to accomplish its objectives

• Preliminary discussion of product definition and scope of coverage.

III. Public Participation

Members of the public are welcome to observe the business of the meeting and, if time allows, may make oral statements during the specified period for public comment. To attend the meeting and/or to make oral statements regarding any of the items on the agenda, email asrac@ee.doe.gov. In the email, please indicate your name, organization (if appropriate), citizenship, and contact information. Please note that foreign nationals visiting DOE Headquarters are subject to advance security screening procedures. Any foreign national wishing to participate in the meeting should advise ASRAC staff as soon as possible by emailing asrac@ee.doe.gov to initiate the necessary procedures, no later than Friday, November 22, 2013. Anyone attending the meeting will be required to present a government photo identification, such as a passport, driver's license, or government identification. Due to the required security screening upon entry, individuals attending should arrive early to allow for the extra time needed.

Members of the public will be heard in the order in which they sign up for the Public Comment Period. Time allotted per speaker will depend on the number of individuals who wish to speak but will not exceed five minutes. Reasonable provision will be made to include the scheduled oral statements on the agenda. The co-chairs of the Committee will make every effort to hear the views of all interested parties and to facilitate the orderly conduct of business.

Participation in the meeting is not a prerequisite for submission of written comments. ASRAC invites written comments from all interested parties. If you would like to file a written statement with the committee, you may do so either by submitting a hard or electronic copy before or after the meeting. Electronic copy of written statements should be emailed to asrac@ee.doe.gov.

Minutes: All notices, public comments, public meeting transcripts, and supporting documents associated with this working group are included in Docket No. EERE-2013-BT-NOC-0039.

Issued in Washington, DC on November 1, 2013.
Kathleen B. Hogan,
Deputy Assistant Secretary for Energy Efficiency, Energy Efficiency and Renewable Energy.

[FR Doc. 2013-27034 Filed 11-8-13; 8:45 am]

BILLING CODE 6450-01-P